DEPARTMENT OF ENERGY

Federal Energy Regulatory Commission

[Docket No. RP03-493-001]

Columbia Gas Transmission Corporation; Notice of Tariff Filing

June 10, 2003.

Take notice that on June 4, 2003, Columbia Gas Transmission Corporation (Columbia) tendered for filing as part of its FERC Gas Tariff, Second Revised Volume No. 1, Original Sheet No. 503.01, with a proposed effective date of July 1, 2003.

Columbia states that on May 30, 2003, it submitted a filing in Docket No. RP03-493 that proposed revisions to Columbia's Tariff. Columbia states that the instant filing seeks to correct a pagination error by withdrawing Original Sheet No. 503A from the May 30 filing, and replacing it with Original Sheet No. 503.01.

Columbia states that copies of its filing have been mailed to all firm customers, interruptible customers and affected state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link. Protest Date: June 16, 2003.

Magalie R. Salas,
Secretary.

[FR Doc. 03-15178 Filed 6-16-03; 8:45 am]

BILLING CODE 6717-01-P